DEPARTMENT OF AGRICULTURE

Grain Inspection, Packers and Stockyards Administration (GIPSA)

Notice of Intent To Certify Wisconsin Department of Agriculture, Trade and Consumer Protection (Wisconsin); Request for Comments

AGENCY: Grain Inspection, Packers and Stockyards Administration, USDA.

ACTION: Notice.

SUMMARY: We are asking for comments on the quality of services provided by this Delegated State: Wisconsin Department of Agriculture, Trade and Consumer Protection (Wisconsin).

DATES: Comments must be received by September 23, 2016.

ADDRESSES: Submit comments concerning this Notice using any of the following methods:

• Submit Comments Using the Internet: Go to Regulations.gov (http://www.regulations.gov). Instructions for submitting and reading comments are detailed on the site.

• Mail, Courier or Hand Delivery: Jacob Thein, Compliance Officer, USDA, GIPSA, FGIS, QACD, 10383 North Ambassador Drive, Kansas City, MO 64153.

• Fax: Jacob Thein, 816-872-1257.

• Email: Jacob.D.Thein@usda.gov or FGIS.QACD@usda.gov.

Read Comments: All comments are available for public inspection at the office above during regular business hours (7 CFR 1.27(c)).

FOR FURTHER INFORMATION CONTACT: Jacob Thein, 816-866-2223, Jacob.D.Thein@usda.gov or FGIS.QACD@usda.gov.

SUPPLEMENTARY INFORMATION: Section 79(e)(2)(A) of the United States Grain Standards Act (USGSA) designates that if the Secretary determines, pursuant to paragraph (3) of Section 79(e), that a State agency is qualified to perform official inspection, meets the criteria in subsection (f)(1)(A) of Section 79, and (i) was performing official inspection at an export port location under this chapter on July 1, 1976, or (ii)(I) performed official inspection at an export port location at any time prior to July 1, 1976, (II) was designated under subsection (f) of Section 79 on December 22, 1982, to perform official inspections at locations other than export port locations, and (III) operates in a State from which total annual exports do not exceed, as determined by the Secretary, five per centum of the total amount of grain exported from the United States annually, the Secretary may delegate authority to the State agency to perform all or specified functions involving official inspection (other than appeal inspection) at export port locations within the State, including export port locations which may in the future be established, subject to such rules, regulations, instructions, and oversight as the Secretary may prescribe, and any such official inspection shall continue to be the direct responsibility of the Secretary. Any such delegation may be revoked by the Secretary, at the discretion of the Secretary, at any time upon notice to the State agency without opportunity for a hearing. Under Section 79(e) of the USGSA, every five years, the Secretary shall certify that each State agency with a delegation of authority is meeting the criteria described in subsection (f)(1)(A). Delegations shall be renewed according to the criteria and procedures set forth in Section 79(e)(2)(B) of the USGSA.

Area of Delegation

Wisconsin

Pursuant to Section 79(e)(2) of the USGSA, the following export port locations, in the State of Wisconsin is assigned to this State agency.

In Wisconsin

All export port locations in the State of Wisconsin, except those export port locations within the State, which are serviced by GIPSA (Milwaukee).

In Minnesota

The export port location of Duluth, Minnesota.

Request for Comments

We are publishing this Notice to provide interested persons the opportunity to comment on the quality of services provided by the State of Wisconsin. We are particularly interested in receiving comments citing reasons and pertinent data supporting or objecting to the delegation of the applicant. Submit all comments to Jacob Thein at the above address or at http://www.regulations.gov.

We consider comments and other available information when determining certification.

Authority: 7 U.S.C. 71-87k.

Larry Mitchell,
Administrator, Grain Inspection, Packers and Stockyards Administration.

[FR Doc. 2016-20173 Filed 8-23-16; 8:45 am]

BILLING CODE 3410-KD-P